OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Executive Resources and Employee Development, Employee Services, 202-606-2246.

SUPPLEMENTARY INFORMATION: Appearing in the listing below are the individual authorities established under Schedules A, B, and C between June 1, 2011, and June 30, 2011. These notices are published monthly in the Federal Register at http://www.gpoaccess.gov/fr/. A consolidated listing of all authorities as of June 30 is also published each year. The following Schedules are not codified in the Code of Federal Regulations. These are agency-specific exceptions.

Schedule A

No Schedule A authorities to report during June 2011.

Schedule B

No Schedule B authorities to report during June 2011.

Schedule C

The following Schedule C appointments were approved during June 2011.

;
Agency name | Organization name | Position title | Authorization No. | Effective date
BROADCASTING BOARD OF GOVERNORS | International Broadcasting Bureau | Confidential Assistant | IB110005 | 6/22/2011
DEPARTMENT OF COMMERCE | Office of Scheduling and Advance | Confidential Assistant | DC110089 | 6/3/2011
| Office of the Assistant Secretary for Manufacturing and Services | Special Assistant | DC110088 | 6/8/2011
| Economic Development Administration | Special Advisor | DC110090 | 6/10/2011
| Office of Policy and Strategic Planning | Special Assistant | DC110086 | 6/16/2011
| Office of the General Counsel | Special Assistant | DC110092 | 6/16/2011
| Office of the Under Secretary | Special Advisor | DC110093 | 6/17/2011
| Office of the Assistant Secretary for Economic Development | Chief of Staff for Economic Development | DC110094 | 6/17/2011
COMMISSION ON CIVIL RIGHTS | Commissioners | Special Assistant | CC110002 | 6/22/2011
COMMODITY FUTURES TRADING COMMISSION | Office of the Chairperson | Director, Office of Public Affairs | CT110002 | 6/3/2011
| Office of the Chairperson | Public Affairs Specialist (Speechwriter) | CT110003 | 6/28/2011
COUNCIL ON ENVIRONMENTAL QUALITY | Council on Environmental Quality | Special Assistant (Communications) | EQ110005 | 6/13/2011
DEPARTMENT OF DEFENSE | Office of the General Counsel | Special Counsel | DD110073 | 6/3/2011
| Office of Assistant Secretary of Defense (Legislative Affairs) | Special Assistant | DD110076 | 6/3/2011
| Office of the Under Secretary of Defense (Comptroller) | Special Assistant | DD110078 | 6/17/2011
DEPARTMENT OF EDUCATION | Office of the General Counsel | Special Assistant | DB110088 | 6/3/2011
| Office of the Under Secretary | Director of the White House Initiative on Historically Black Colleges and Universities | DB110085 | 6/10/2011
| Office of the Under Secretary | Director, White House Initiative on Educational Excellence for Hispanic Americans | DB110086 | 6/10/2011
| Office of the Under Secretary | Director, Faith-Based & Neighborhood Partnerships | DB110087 | 6/10/2011
| Office of the Under Secretary | Special Assistant | DB110084 | 6/10/2011
| Office of the Under Secretary | Director, White House Initiative on Educational Excellence for Hispanic Americans | DB110083 | 6/10/2011
| Office of the Under Secretary | Special Assistant | DB110082 | 6/10/2011
| Office of the Under Secretary | Confidential Assistant | DB110090 | 6/10/2011
| Office of the Under Secretary | Special Assistant | DB110089 | 6/10/2011
| Office of the Under Secretary | Confidential Assistant | DB110092 | 6/17/2011
| Office of Vocational and Adult Education | Deputy Assistant Secretary for Policy & Strategic Initiatives | DB110091 | 6/21/2011
DEPARTMENT OF ENERGY | Office of Public Affairs Assistant Secretary for Energy Efficiency and Renewable Energy | Press Assistant | DE110092 | 6/3/2011
|  | Special Assistant | DE110107 | 6/15/2011
| Office of the Deputy Secretary | Special Assistant | DE110108 | 6/15/2011
| Office of General Counsel | Staff Assistant | DE110112 | 6/21/2011
| National Nuclear Security Administration | Senior Advisor | DE110115 | 6/21/2011
| Office of Management | Special Assistant | DE110117 | 6/22/2011
| Office of the Secretary | Special Assistant | DE110109 | 6/24/2011
ENVIRONMENTAL PROTECTION AGENCY | Advance Staff | Advance Specialist | EP110034 | 6/13/2011
| Advance Staff | Deputy Director for Advance | EP110032 | 6/16/2011
| Office of the Associate Administrator for Congressional and Intergovernmental Relations | Special Assistant | EP110033 | 6/16/2011
EXPORT-IMPORT BANK | Board of Directors | Senior Advisor | EB110008 | 6/3/2011
| Board of Directors | Special Assistant | EB110010 | 6/9/2011
GENERAL SERVICES ADMINISTRATION | Pacific Rim Region | Regional Administrator | GS110043 | 6/2/2011
DEPARTMENT OF HEALTH AND HUMAN SERVICES | Office of the Assistant Secretary for Planning and Evaluation | Director of Delivery System Reform | DH110075 | 6/14/2011
| Office of the Assistant Secretary for Health | Director of Communications | DH110104 | 6/14/2011
| Office of the Assistant Secretary for Public Affairs | Communications Director for Health Care | DH110106 | 6/17/2011
| Office of the Assistant Secretary for Children and Families | Special Assistant for Children and Families | DH110108 | 6/30/2011
DEPARTMENT OF HOMELAND SECURITY | Office of the Assistant Secretary for Policy | Special Assistant | DM110195 | 6/3/2011
| U.S. Customs and Border Protection | Counselor | DM110203 | 6/13/2011
| Office of the Under Secretary for National Protection and Programs Directorate | Program Coordinator | DM110192 | 6/14/2011
| Office of the Under Secretary for National Protection and Programs Directorate | Special Advisor | DM110208 | 6/29/2011
DEPARTMENT OF HOUSING AND URBAN DEVELOPMENT | Office of Policy Development and Research | Special Policy Advisor | DU110026 | 6/15/2011
DEPARTMENT OF THE INTERIOR | Assistant Secretary—Water and Science | Counselor- Water and Science | DI110071 | 6/28/2011
DEPARTMENT OF JUSTICE | Office of the Deputy Attorney General | Senior Counsel | DJ110094 | 6/14/2011
| Office of the Deputy Attorney General | Senior Counsel | DJ110095 | 6/15/2011
DEPARTMENT OF LABOR | Office of the Assistant Secretary for Policy | Special Assistant | DL110028 | 6/10/2011
| Secretary for Policy
NATIONAL AERONAUTICS AND SPACE ADMINISTRATION | Office of the Administrator | Special Advisor | NN110021 | 6/7/2011
| Office of the Deputy Administrator | Executive Officer | NN110051 | 6/7/2011
OFFICE OF THE UNITED STATES TRADE REPRESENTATIVE | Office of the United States Trade Representative | Personal Assistant | TN110010 | 6/2/2011
SMALL BUSINESS ADMINISTRATION | Office of Field Operations | Associate Administrator for Field Operations | SB110032 | 6/24/2011
| Office of Congressional and Legislative Affairs | Special Assistant for Congressional and Legislative Affairs | SB110033 | 6/24/2011
DEPARTMENT OF TRANSPORTATION | Assistant Secretary for Governmental Affairs | Associate Director for Governmental Affairs | DT110041 | 6/2/2011
| Assistant Secretary for Governmental Affairs | Deputy Assistant Secretary for Governmental Affairs | DT110045 | 6/24/2011
| Assistant Secretary for Governmental Affairs | Associate Director for Governmental Affairs | DT110046 | 6/24/2011
DEPARTMENT OF THE TREASURY | Assistant Secretary (Legislative Affairs) | Special Assistant | DY110094 | 6/17/2011
| Assistant Secretary (Legislative Affairs) | Special Assistant | DY110095 | 6/22/2011
| Assistant Secretary (Legislative Affairs) | Special Assistant | DY110095 | 6/22/2011

Authority: 5 U.S.C. 3301 and 3302; E.O. 10577, 3 CFR 1954-1958 Comp., p. 218.

U.S. Office of Personnel Management.
John Berry,
Director.

[FR Doc. 2011-21808 Filed 8-24-11; 8:45 am]

BILLING CODE 6325-39-P